DEPARTMENT OF ENERGY

Federal Energy Regulatory Commission

Combined Notice of Filings #1

Take notice that the Commission received the following electric corporate filings:

Docket Numbers: EC11-116-000.

Applicants: International Transmission Company.

Description: ITC Section 203 Application Regarding Pine Tree Acres Line.

Filed Date: 09/09/2011.

Accession Number: 20110909-5089.

Comment Date: 5 p.m. Eastern Time on Friday, September 30, 2011.

Take notice that the Commission received the following electric rate filings:

Docket Numbers: ER11-4468-000.

Applicants: Energy Investments, LLC.

Description: Energy Investments, LLC submits tariff filing per 35.1: Energy Investments LLC MBR to be effective 9/8/2011.

Filed Date: 09/08/2011.

Accession Number: 20110908-5060.

Comment Date: 5 p.m. Eastern Time on Thursday, September 29, 2011.

Docket Numbers: ER11-4469-000.

Applicants: Columbia Utilities Power, LLC.

Description: Columbia Utilities Power, LLC submits tariff filing per 35.1: Columbia Utilities Power FERC Electric Tariff to be effective 9/8/2011.

Filed Date: 09/08/2011.

Accession Number: 20110908-5066.

Comment Date: 5 p.m. Eastern Time on Thursday, September 29, 2011.

Docket Numbers: ER11-4470-000.

Applicants: Palmco Power NJ, LLC.

Description: Palmco Power NJ, LLC submits tariff filing per 35.1: Palmco Power NJ FERC Electric Tariff to be effective 9/8/2011.

Filed Date: 09/08/2011.

Accession Number: 20110908-5078.

Comment Date: 5 p.m. Eastern Time on Thursday, September 29, 2011.

Docket Numbers: ER11-4471-000.

Applicants: Palmco Power PA, LLC.

Description: Palmco Power PA, LLC submits tariff filing per 35.1: Palmco Power PA FERC Electric Tariff to be effective 9/8/2011.

Filed Date: 09/08/2011.

Accession Number: 20110908-5081.

Comment Date: 5 p.m. Eastern Time on Thursday, September 29, 2011.

Docket Numbers: ER11-4472-000.

Applicants: Palmco Power CT, LLC.

Description: Palmco Power CT, LLC submits tariff filing per 35.1: Palmco Power CT FERC Electric Tariff to be effective 9/8/2011.

Filed Date: 09/08/2011.

Accession Number: 20110908-5082.

Comment Date: 5 p.m. Eastern Time on Thursday, September 29, 2011.

Docket Numbers: ER11-4473-000.

Applicants: Palmco Power MD, LLC.

Description: Palmco Power MD, LLC submits tariff filing per 35.1: Palmco Power MD FERC Electric Tariff to be effective 9/8/2011.

Filed Date: 09/08/2011.

Accession Number: 20110908-5083.

Comment Date: 5 p.m. Eastern Time on Thursday, September 29, 2011.

Docket Numbers: ER11-4474-000.

Applicants: Oceanside Power LLC.

Description: Oceanside Power LLC submits tariff filing per 35.1: Oceanside Power LLC Baseline Tariff Filing to be effective 9/8/2011.

Filed Date: 09/08/2011.

Accession Number: 20110908-5099.

Comment Date: 5 p.m. Eastern Time on Thursday, September 29, 2011.

Docket Numbers: ER11-4475-000.

Applicants: Rockland Wind Farm LLC.

Description: Rockland Wind Farm LLC submits tariff filing per 35.12: Rockland Wind Farm LLC—Market-Based Tariff Filing to be effective 9/8/2011.

Filed Date: 09/08/2011.

Accession Number: 20110908-5121.

Comment Date: 5 p.m. Eastern Time on Thursday, September 29, 2011.

Docket Numbers: ER11-4476-000.

Applicants: Black Hills Power, Inc.

Description: Black Hills Power, Inc. submits tariff filing per 35.13(a)(2)(iii: Revised JOATT Section 23 to be effective 6/23/2011.

Filed Date: 09/08/2011.

Accession Number: 20110908-5142.

Comment Date: 5 p.m. Eastern Time on Thursday, September 29, 2011.

Docket Numbers: ER11-4477-000.

Applicants: Westar Energy, Inc.

Description: Westar Energy, Inc. submits tariff filing per 35.13(a)(2)(iii: Mid-Kansas Electric Company, LLC, Balancing Area Services Agreement to be effective 9/1/2011.

Filed Date: 09/08/2011.

Accession Number: 20110908-5146.

Comment Date: 5 p.m. Eastern Time on Thursday, September 29, 2011.

Docket Numbers: ER11-4478-000.

Applicants: White Creek Wind I, LLC.

Description: White Creek Wind I, LLC submits tariff filing per 35.1: White Creek Wind I, LLC MBR Tariff to be effective 8/1/2007.

Filed Date: 09/08/2011.

Accession Number: 20110908-5147.

Comment Date: 5 p.m. Eastern Time on Thursday, September 29, 2011.

Docket Numbers: ER11-4479-000.

Applicants: Endure Energy, L.L.C.

Description: Endure Energy, L.L.C. submits tariff filing per 35.1: Market Based Rates Re-file to be effective 9/8/2011.

Filed Date: 09/08/2011.

Accession Number: 20110908-5168.

Comment Date: 5 p.m. Eastern Time on Thursday, September 29, 2011.

Docket Numbers: ER11-4480-000.

Applicants: California Independent System Operator Corporation.

Description: California Independent System Operator Corporation submits tariff filing per 35.13(a)(2)(iii: 2011-09-08 CAISO CDWR PLA Extension to be effective 9/10/2011.

Filed Date: 09/08/2011.

Accession Number: 20110908-5169.

Comment Date: 5 p.m. Eastern Time on Thursday, September 29, 2011.

Docket Numbers: ER11-4481-000.

Applicants: Black Hills Power, Inc.

Description: Black Hills Power, Inc. submits tariff filing per 35.13(a)(2)(iii: Revised BH Power, Inc., JOATT Section 23 to be effective 9/9/2011.

Filed Date: 09/08/2011.

Accession Number: 20110908-5171.

Comment Date: 5 p.m. Eastern Time on Thursday, September 29, 2011.

Docket Numbers: ER11-4482-000.

Applicants: Madstone Energy Corp.

Description: Madstone Energy Corp submits tariff filing per 35.12: FERC Electric Tariff to be effective 10/31/2011.

Filed Date: 09/09/2011.

Accession Number: 20110909-5001.

Comment Date: 5 p.m. Eastern Time on Friday, September 30, 2011.

Docket Numbers: ER11-4483-000.

Applicants: ISO New England Inc.

Description: ISO New England Inc. submits tariff filing per 35.13(a)(2)(iii: ISO-NE OATT Schedule 21—CTMEEC to be effective 11/6/2011.

Filed Date: 09/09/2011.

Accession Number: 20110909-5021.

Comment Date: 5 p.m. Eastern Time on Friday, September 30, 2011.

Docket Numbers: ER11-4484-000.

Applicants: Victoria International Ltd.

Description: Victoria International Ltd. submits tariff filing per 35.1: Victoria International Ltd Baseline Tariff Filing to be effective 9/9/2011.

Filed Date: 09/09/2011.

Accession Number: 20110909-5032.

Comment Date: 5 p.m. Eastern Time on Friday, September 30, 2011.

Docket Numbers: ER11-4485-000.

Applicants: PJM Interconnection, L.L.C.

Description: PJM Interconnection, L.L.C. submits tariff filing per 35.13(a)(2)(iii: PJM Service Agreement No. 3047 among PJM, Alethea and JCP&L to be effective 8/10/2011.

Filed Date: 09/09/2011.

Accession Number: 20110909-5077.

Comment Date: 5 p.m. Eastern Time on Friday, September 30, 2011.

Docket Numbers: ER11-4486-000.

Applicants: ITC Midwest LLC.

Description: ITC Midwest LLC submits tariff filing per 35.13(a)(2)(iii: Filing of Agreements with Central Iowa Power Cooperative to be effective 11/9/2011.

Filed Date: 09/09/2011.

Accession Number: 20110909-5101.

Comment Date: 5 p.m. Eastern Time on Friday, September 30, 2011.

Docket Numbers: ER11-4487-000.

Applicants: Public Service Company of Colorado.

Description: Public Service Company of Colorado submits tariff filing per 35.13(a)(2)(iii: 2011-9-9_308-PSCo_WAPA_Richard Lk Mtr to be effective 4/14/2011.

Filed Date: 09/09/2011.

Accession Number: 20110909-5104.

Comment Date: 5 p.m. Eastern Time on Friday, September 30, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2011.
Nathaniel J. Davis, Sr.,
Deputy Secretary.

[FR Doc. 2011-23921 Filed 9-16-11; 8:45 am]

BILLING CODE 6717-01-P